DEPARTMENT OF COMMERCE

International Trade Administration

[A-428-844]

Certain Carbon and Alloy Steel Cut-to-Length Plate From the Federal Republic of Germany: Recission of Antidumping Administrative Review; 2020-2021

AGENCY: Enforcement and Compliance, International Trade Administration, Department of Commerce.

SUMMARY: The U.S. Department of Commerce (Commerce) is rescinding the administrative review of the antidumping duty order on certain carbon and alloy steel cut-to-length plate (CTL plate) from the Federal Republic of Germany (Germany), covering the period of review (POR) May 1, 2021, through April 30, 2022.

DATES: Applicable January 24, 2023.

FOR FURTHER INFORMATION CONTACT: Paul Gill, AD/CVD Operations, Office IX, Enforcement and Compliance, International Trade Administration, U.S. Department of Commerce, 1401 Constitution Avenue NW, Washington, DC 20230; telephone: (202) 482-5673.

SUPPLEMENTARY INFORMATION:

Background

On May 2, 2022, Commerce published in the Federal Register a notice of opportunity to request an administrative review of the antidumping duty order on CTL plate from Germany, covering the POR.¹ On May 31, 2022, Cleveland-Cliffs Steel LLC, Nucor Corporation, and SSAB Enterprises, LLC (collectively, the petitioners) timely requested that Commerce conduct an administrative review.²

¹ See Antidumping or Countervailing Duty Order, Finding, or Suspended Investigation; Opportunity to Request Administrative Review and Join Annual Inquiry Service List, 87 FR 25619 (May 2, 2022).

² See Petitioners' Letter, “Request for Administrative Review,” dated May 31, 2022.

On July 14, 2022, Commerce published in the Federal Register a notice of initiation of an administrative review with respect to AG der Dillinger Hüttenwerke (Dillinger) in accordance with section 751(a) of the Tariff Act of 1930, as amended (the Act).³ On July 15, 2022, Commerce released U.S. Customs and Border Protection (CBP) entry data for the POR to all interested parties.⁴ On July 19, 2022, Dillinger, the only company subject to this review, filed a no-shipments certification, stating that it did not have any exports, sales, or entries of CTL plate for consumption in the United States during the POR.⁵

³ See Initiation of Antidumping and Countervailing Duty Administrative Reviews, 87 FR 42144, 42147 (July 14, 2022).

⁴ See Memorandum, “Release of Customs Entry Data from U.S. Customs and Border Protection (CBP),” dated July 15, 2022.

⁵ See Dillinger's Letter, “Notice of No Sales,” dated July 19, 2022.

On August 4, 2022, Commerce requested entry documentation from CBP,⁶ which it placed on the record of this administrative review on October 18, 2022.⁷ On October 26, 2022, Dillinger requested additional guidance regarding the information contained in the CBP Entry Documents Memorandum, which Commerce provided on October 28, 2022.⁸ On November 7, 2022, Dillinger submitted comments on the CBP Entry Documents Memorandum, as well as additional information Commerce requested in its October 28, 2022, letter.⁹

⁶ See Memorandum, “Request for Entry Documentation,” dated August 4, 2022.

⁷ See Memorandum, “Notification of Receipt of U.S. Entry Documents,” dated October 18, 2022 (CBP Entry Documents Memorandum).

⁸ See Dillinger's Letter, “Request for Extension of Comment Period for Entry Documents and for Guidance on the Disclosure of Entry Information,” dated October 26, 2022; and Commerce's Letter, Guidance for the CBP Entry Documents Memorandum, dated October 28, 2022.

⁹ See Dillinger's Letters, “Comments on Entry Documents,” dated November 7, 2022; and “Response to Request for Invoice Data,” dated November 7, 2022.

On December 28, 2022, Commerce found that the information Dillinger provided demonstrated that it had no U.S. sales of subject merchandise during the POR; therefore, Commerce notified interested parties of its intent to rescind the review of Dillinger because the company did not have a reviewable, suspended entry of subject merchandise during the POR.¹⁰ Commerce also provided parties an opportunity to submit comments, including factual information, to demonstrate whether there were reviewable entries during the POR for Dillinger.¹¹ On January 4, 2023, only Dillinger filed comments regarding Commerce's intent to rescind this review, agreeing that Commerce should rescind the review.¹²

¹⁰ See Memorandum, “Notice of Intent to Rescind Review,” dated December 28. 2022.

¹¹ Id.

¹² See Dillinger's Letter, “Comments on Notice of Intent to Rescind Review,” dated January 4, 2023.

Rescission of Review

Pursuant to 19 CFR 351.213(d)(3), it is Commerce's practice to rescind an administrative review of an antidumping duty order where it concludes that there were no reviewable entries of subject merchandise during the POR for an exporter or producer.¹³ Normally, upon completion of an administrative review, the suspended entries are liquidated at the antidumping duty assessment rate for the review period.¹⁴ Therefore, for an administrative review to be conducted, there must be a reviewable, suspended entry that Commerce can instruct CBP to liquidate at the calculated antidumping duty assessment rate for the review period.¹⁵ As noted above, there were no entries of subject merchandise from Dillinger during the POR. Accordingly, in the absence of reviewable, suspended entries of subject merchandise during the POR, we are rescinding this administrative review for Dillinger in accordance with 19 CFR 351.213(d)(3).

¹³ See, e.g., Welded Line Pipe from the Republic of Turkey: Rescission of the Antidumping Duty Administrative Review; 2019-2020, 87 FR 27988 (May 10, 2022).

¹⁴ See 19 CFR 351.212(b)(2).

¹⁵ See 19 CFR 351.212(d)(3).

Assessment

Commerce will instruct CBP to assess antidumping duties on all appropriate entries. Because Commerce is rescinding this review in its entirety, the entries to which this administrative review pertained shall be assessed at rates equal to the cash deposit of estimated antidumping duties required at the time of entry, or withdrawal from warehouse, for consumption, in accordance with 19 CFR 351.212(c)(1)(i). Commerce intends to issue assessment instructions to CBP no earlier than 35 days after the date of publication of this rescission notice in the Federal Register.

Cash Deposit Requirements

As Commerce has proceeded to a final rescission of this administrative review, no cash deposit rates will change. Accordingly, the current cash deposit requirements shall remain in effect until further notice.

Administrative Protective Order

This notice serves as a final reminder to parties subject to an administrative protective order (APO) of their responsibility concerning the return or destruction of proprietary information disclosed under APO in accordance with 19 CFR 351.305, which continues to govern business proprietary information in this segment of the proceeding. Timely written notification of the return or destruction of the APO materials or conversion to judicial protective order is hereby requested. Failure to comply with regulations and terms of an APO is a violation, which is subject to sanction.

Notification to Interested Parties

This notice is issued and published in accordance with sections 751(a)(1) and 777(i)(l) of the Act, and 19 CFR 351.213(d)(4).

Dated: January 19, 2023.
James Maeder,
Deputy Assistant Secretary for Antidumping and Countervailing Duty Operations.

[FR Doc. 2023-01331 Filed 1-23-23; 8:45 am]

BILLING CODE 3510-DS-P